DEPARTMENT OF HEALTH AND HUMAN SERVICES

Centers for Disease Control and Prevention

Notice of Award of a Single-Source Cooperative Agreement To Fund the Ministry of Health Zanzibar

AGENCY: Centers for Disease Control and Prevention (CDC), Department of Health and Human Services (HHS).

ACTION: Notice.

SUMMARY: The Centers for Disease Control and Prevention (CDC), located within the Department of Health and Human Services (HHS), announces the award of approximately $5,000,000, for Year 1 funding to the Ministry of Health Zanzibar (MOHZ). The award will provide rapid and flexible support to Zanzibar to accelerate evidence-based, person-centered HIV prevention and treatment program implementation at both facility and community levels, align HSS strengthening activities towards epidemic control, and ensure a comprehensive, coordinated, and strategic approach to the HIV response by organizing policies and interventions supported by reliable epidemiologic and program data. Funding amounts for years 2-5 will be set at continuation.

DATES: The period for this award will be September 30, 2023, through September 29, 2028.

FOR FURTHER INFORMATION CONTACT: Angela Schaad, Center for Global Health, Centers for Disease Control and Prevention, 2448 Albert Luthuli Rd, NIMR Complex | P.O. Box 9123 Dar es Salaam, Tanzania, Telephone: 255 677 680 051, Email: kin7@cdc.gov.

SUPPLEMENTARY INFORMATION: The single-source award will enhance collaboration between PEPFAR and the MOHZ to scale up HIV/TB services and improve quality of service delivery by reducing barriers to access.

The MOHZ is in a unique position to conduct this work in terms of its mandate and existing infrastructure to address the HIV strategy throughout Zanzibar.

Summary of the Award

Recipient: Ministry of Health Zanzibar (MOHZ).

Purpose of the Award: The purpose of this award is to provide rapid and flexible support to Zanzibar to accelerate evidence-based, person-centered HIV prevention and treatment program implementation at both facility and community levels, align HSS strengthening activities towards epidemic control, and ensure a comprehensive, coordinated, and strategic approach to the HIV response by organizing policies and interventions supported by reliable epidemiologic and program data.

Amount of Award: The approximate year 1 funding amount will be $5,000,000 in Federal Fiscal Year (FYY) 2023 funds, subject to the availability of funds. Funding amounts for years 2-5 will be set at continuation.

Authority: This program is authorized under Public Law 108-25 (the United States Leadership Against HIV AIDS, Tuberculosis and Malaria Act of 2003).

Period of Performance: September 30, 2023 through September 29, 2028.

Dated: March 9, 2023.
Terrance Perry,
Chief Grants Management Officer, Centers for Disease Control and Prevention.

[FR Doc. 2023-05252 Filed 3-14-23; 8:45 am]

BILLING CODE 4163-18-P